DEPARTMENT OF DEFENSE

Office of the Secretary

Proposed Collection; Comment Request

AGENCY: Office of the Under Secretary of Defense (Acquisition, Technology, and Logistics)/Office of the Deputy Under Secretary of Defense (Industrial Affairs), Department of Defense.

ACTION: Notice.

In compliance with section 3506(c)(2)(A) of the Paperwork Reduction Act of 1995, the Office of the Deputy Under Secretary of Defense (Industrial Affairs) announces the proposed extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 18, 2001.

ADDRESSES: Interested parties should submit written comments and recommendations on the proposed information collection to: Office of the Deputy Under Secretary of Defense (Industrial Affairs), Attn: Mr. Gary Powell, 3330 Defense Pentagon, Room 3E1060, Washington, DC 20301-3330; E-mail comments submitted via the Internet should be addressed to: Gary.Powell@osd.mil.

FOR FURTHER INFORMATION CONTACT: To request further information on this proposed information collection, or to obtain a copy of the proposal and associated collection instrument, please write to the above address or call Mr. Gary Powell at (703) 602-4297.

Title, Associated Form, and OMB Number: Department of Defense Application for Priority Rating for Production or Construction Equipment, DD Form 691, OMB Number 0704-0055.

Needs and Uses: Executive Order 12919 delegated to DoD authority to require certain contracts and orders relating to approved Defense Programs to be accepted and performed on a preferential basis. This program helps contractors acquire industrial equipment in a timely manner, thereby facilitating development and support of weapons systems and other important Defense Programs.

Affected Public: Business or Other for-Profit; Non-Profit Institutions; Federal Government.

Annual Burden Hours: 610.

Number of Annual Respondents: 610.

Annual Responses to Respondent: 1.

Average Burden per Response: 1 Hour.

Frequency: On occasion.

SUPPLEMENTARY INFORMATION:

Summary of Information Collection

This information is used so the authority to use a priority rating in ordering a needed item can be granted. This is done to assure timely availability of production or construction equipment to meet current Defense requirements in peacetime and in case of national emergency. Without this information DoD would not be able to assess a contractor's stated requirement to obtain equipment needed for fulfillment of contractual obligations. Submission of this information is voluntary.

Dated: March 12, 2001.
Patricia L. Toppings,
Alternate OSD Federal Register Liaison Officer, Department of Defense.

[FR Doc. 01-6685 Filed 3-16-01; 8:45 am]

BILLING CODE 5001-10-M